NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before August 14, 2008. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Health and Human Services, Food and Drug Administration (N1-88-07-2, 16 items, 13 temporary items). Guidance and regulation development records; publication change requests; non-substantive program subject files; program management files; adverse event reports relating to agency regulated products; and regulated products registration and listing records. Proposed for permanent retention are final guidance documents, internal program directives and procedures manuals, and substantive program subject files.

2. Department of Homeland Security, Management Directorate (N1-563-08-10, 4 items, 3 temporary items). Classification management records relating to declassification plans, requests, and reviews. Proposed for permanent retention are security classification guides.

3. Department of Homeland Security, United States Citizenship and Immigration Services (N1-566-08-10, 1 item, 1 temporary item). Master file associated with an electronic information system that stores biometric images (photograph, fingerprint, and signature) used to verify the identity of registered resident aliens and for preventing illegal entry into the United States.

4. Department of Homeland Security, United States Citizenship and Immigration Services (N1-566-08-15, 1 item, 1 temporary item). Master file associated with an electronic information system that processes and tracks applications by individuals for naturalization and/or citizenship. Data in the system is downloaded to the USCIS Central Index System, which was previously approved for permanent retention.

5. Department of the Interior, Bureau of Reclamation (N1-115-08-9, 2 items, 2 temporary items). Master files of the Supervisory Control and Data Acquisition systems and verification backups of files. These systems collect real time data used to operate and maintain water storage and hydroelectric power generation.

6. Department of the Interior, United States Geological Survey (N1-57-08-7, 12 items, 6 temporary items). Geology Discipline records including geology research project development, demonstration, distribution, assessment, testing, and related research functions. Proposed for permanent retention are significant research records and related indexes.

7. Department of Justice, Agency-wide (N1-60-08-21, 1 item, 1 temporary item). Master file for an electronic personnel locator system used for collaboration purposes and to contact personnel during emergency situations.

8. Department of Justice, Bureau of Alcohol, Tobacco, Firearms and Explosives (N1-436-08-4, 1 item, 1 temporary item). Master file of the Forensics Administrative Caseload and Evidence Tracking System, which tracks caseload status for submitted evidence.

9. Department of Justice, Federal Bureau of Investigation (N1-65-08-17, 1 item, 1 temporary item). This schedule requests authority to destroy case 29J-PG-70390, which pertains exclusively to the investigation of the captioned individual. This request responds to a Federal Pre-Trial Diversion Program court order to delete the records of the captioned individual.

10. Department of Justice, Federal Bureau of Investigation (N1-65-08-18, 1 item, 1 temporary item). This schedule requests authority to destroy case 46B-DL-87279, which pertains exclusively to the investigation of the captioned individual. This request responds to a Federal Pre-Trial Diversion Program court order to delete the records of the captioned individual.

11. Department of Justice, Federal Bureau of Investigation (N1-65-08-19, 2 items, 2 temporary items). Records of the health care programs unit, including equipment maintenance and non-employee individual health records.

12. Department of the Navy, Naval Criminal Investigative Service (N1-NU-07-8, 4 items, 4 temporary items). Forensic lab records, including reports, case notes, collected data and fingerprint records.

13. Department of the Treasury, Financial Management Service (N1-425-08-1, 32 items, 29 temporary items). Records of the Debt Management Services' Office of the Assistant Commissioner and Debt Program Division, including reporting records, background files, legislative proposal records, program development records, and customer interaction files for the Treasury Offset Program. Proposed for permanent retention are two series of briefing books covering program administration and policies and final debt collection activity reports. The proposed disposition instructions are limited to paper records, except where an electronic format is specified, including Disclosure Awareness Training records.

14. Environmental Protection Agency, Agency-wide (N1-412-08-8, 3 items, 3 temporary items). Web site records, including site management and operations records, log files, and Web content that is not unique (i.e., the record copy is captured elsewhere).

15. Federal Communications Commission, Office of Engineering and Technology (N1-173-08-2, 1 item, 1 temporary item). Master files of an electronic information system used to track applications for experimental licenses.

16. Federal Communications Commission, Office of Engineering and Technology (N1-173-08-3, 1 item, 1 temporary item). Master files of an electronic information system documenting technical reports.

17. Federal Communications Commission, Office of Engineering and Technology (N1-173-08-6, 1 item, 1 temporary item). Master file of an electronic information system used to track the receipt and disposition of information related to equipment authorization enforcement.

18. Federal Energy Regulatory Commission, Agency-wide (N1-138-08-1, 6 items, 1 temporary item). This schedule authorizes the agency to apply the existing disposition instructions to records series regardless of the recordkeeping medium. Included are Secretary's meeting folders containing agendas and drafts of documents discussed and considered. Paper recordkeeping copies of these records were previously approved for disposal. Also included are minutes of formal Commission meetings and transcripts and digital recordings, for which paper and analog recordkeeping copies previously were approved as permanent.

19. Federal Maritime Commission, Office of the General Counsel (N1-358-08-8, 8 items, 8 temporary items). International affairs files, court and docket case files, legislative correspondence, and subject files.

20. Millennium Challenge Corporation, Agency-wide (N1-561-08-4, 5 items, 5 temporary items). Master files and outputs for electronic information systems used by the agency for performance measuring, evaluation of policy performance of candidate countries, and sharing of information on countries requesting agency partnerships.

21. National Commission on Libraries and Information Science, Agency-wide (N1-220-08-2, 9 items, 9 temporary items). Correspondence files, subject files, task force files, and related records documenting program activities relating to library and information science. The records will be donated to the Special Collections Library at the University of Michigan. The proposed disposition instructions are limited to paper records.

22. Nuclear Regulatory Commission, Office of Federal and State Materials and Environmental Management Programs (N1-431-08-7, 1 item, 1 temporary item). Master file of an electronic information system used to manage information on requests from licensees for authorization to dispose of low level nuclear wastes.

23. Nuclear Regulatory Commission, Office of Federal and State Materials and Environmental Management Programs (N1-431-08-8, 3 items, 3 temporary items). Master file and outputs of an electronic information system used to track requests for reciprocity between jurisdictions in regard to licensing of radioactive materials for medical and industrial testing uses.

Dated: July 10, 2008.
Michael J. Kurtz,
Assistant Archivist for Records Services—Washington, DC.

[FR Doc. E8-16236 Filed 7-14-08; 8:45 am]

BILLING CODE 7515-01-P